DEPARTMENT OF COMMERCE

[I.D. 091404H]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Small Craft Facility Questionnaire.

Form Number(s): NOAA Form 77-1.

OMB Approval Number: 0648-0021.

Type of Request: Regular submission.

Burden Hours: 213.

Number of Respondents: 1,600.

Average Hours Per Response: 8 minutes.

Needs and Uses: NOAA's National Ocean Service produces nautical charts to ensure safe navigation. Small-craft charts are designed for recreational boaters and include information on local marina facilities and the services they provide (fuel, repairs, etc.). Information is collected from marinas to update the information provided to the public.

Affected Public: Business or other for-profit organizations..

Frequency: Annually.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number (202) 395-7285, or David_Rostker@omb.eop.gov.

Dated: September 10, 2004.
Gwellnar Banks,
Management Analyst, Office of the Chief Information Officer.

[FR Doc. 04-21090 Filed 9-17-04; 8:45 am]

BILLING CODE 3510-JE-S